DEPARTMENT OF THE INTERIOR

Bureau of Land Management

[OR-030-00-1020-XU: GPO-0210]

Notice of Correction; John Day/Snake Resource Advisory Council Meeting

AGENCY: Vale District, Bureau of Land Management, Interior.

ACTION: Meeting of John Day/Snake Resource Advisory Council: Enterprise, Oregon, May 23 & 24, 2000.

SUMMARY: Correction to the second day meeting location published May 3, 2000 in the Federal Register. On May 24, 2000 the meeting will be held next door to Wallowa-Whitman National Forest office, 88401 Hwy 82, at the Best Western Rama Inn conference room, Enterprise, Oregon from 8:00 a.m. to 3:00 p.m.

FOR FURTHER INFORMATION CONTACT: Juan Palma, Bureau of Land Management, Vale District Office, 100 Oregon Street, Vale, Oregon 97918, Telephone (541) 473-3144.

Juan Palma,
District Manager.

[FR Doc. 00-12596 Filed 5-18-00; 8:45 am]

BILLING CODE 4310-33-M